DEPARTMENT OF ENERGY

Federal Energy Regulatory Commission

[Project No. 8866-010]

William J. Stevenson, Estate of Lynn E. Stevenson, Black Canyon Bliss, LLC; Notice of Application for Transfer of License, and Soliciting Comments and Motions To Intervene

On April 23, 2012, William J. Stevenson, Estate of Lynn E. Stevenson (transferor) and Black Canyon Bliss, LLC (transferee) filed an application for the transfer of license for the Stevenson No. 2 Project (FERC No. 8866), located on an unnamed stream which is a tributary of the Snake River in Gooding County, Idaho.

Applicants seek Commission approval to transfer the license for the Stevenson No. 2 Project from the transferor to the transferee.

Applicants' Contact: Mr. David Coats, Black Canyon Bliss, LLC, c/o Triple C Concrete, 224 Read Avenue, Rupert, ID 83350 and Christopher Capps, Project Manager, 314 River Road, Bliss, ID 83314 (208) 312-1958.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-8866) in the docket number field to access the document. For assistance, call toll-free 1-866-208-3372.

Dated: May 24, 2012.
Kimberly D. Bose,
Secretary.

[FR Doc. 2012-13267 Filed 5-31-12; 8:45 am]

BILLING CODE 6717-01-P